FEDERAL COMMUNICATIONS COMMISSION

Notice of Public Information Collection(s) Being Reviewed by the Federal Communications Commission, Comments Requested

May 4, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 11, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-1070.

Title: Allocation and Service Rules for the 71-76, 81-86, and 92-95 GHz Bands, WT Docket No. 02-146, FCC 05-45, Memorandum Opinion and Order.

Form No.: N/A.

Type of Review: Revision of a currently approved collection.

Respondents: Business or other for-profit, not-for-profit institutions, and State, local or tribal government.

Number of Respondents: 1,000.

Estimated Time per Response: 1.5-3.5 hours.

Frequency of Response: On occasion reporting requirements, recordkeeping requirement and third party disclosure requirement.

Total Annual Burden: 12,000 hours.

Total Annual Cost: $1,830,000.

Privacy Act Impact Assessment: N/A.

Needs and Uses: In the Memorandum Opinion and Order, the Commission addressed a Petition for Reconsideration filed by the Wireless Communications Association International, Inc. (WCA) on February 23, 2004. WCA sought reconsideration of the Commission's Report and Order, adopted on October 16, 2003, and released on November 4, 2003, 69 FR 3257, January 23, 2004, which adopted service rules to promote the private sector development and use of the spectrum in the 71-76 GHz, 81-86 GHz, and 92-95 GHz bands. The petition and the instant Memorandum Opinion and Order focus exclusively on the licensed use of the 71-76 GHz and 81-86 bands. In the Memorandum Opinion and Order, the Commission granted WCA's request that we adopt an interference analysis requirement. Because licensees are now required to submit an interference analysis to a third party database manager prior to link registration, we are modifying the currently approved collection to accommodate this new rule requirement. The interference will facilitate entry and development of the 70-80-90 GHz service by lowering the risk of interference and thereby ensuring continued investment.

OMB Control No.: 3060-1081.

Title: Federal-State Joint Board on Universal Service (ETC Designation), CC Docket No. 96-45.

Form No.: N/A.

Type of Review: Revision of a currently approved collection.

Respondents: Business or other for-profit.

Number of Respondents: 22.

Estimated Time per Response: .25-3 hours.

Frequency of Response: Annual reporting requirements and recordkeeping requirement.

Total Annual Burden: 242 hours.

Total Annual Cost: N/A.

Privacy Act Impact Assessment: N/A.

Needs and Uses: In the ETC Designation Framework Order (FCC 05-46), the Commission adopted additional annual reporting requirements and a recordkeeping requirement for Eligible Telecommunications Carriers (ETCs). ETCs will be required to report: (1) Progress towards meeting its five year service quality improvement plan; (2) information on outages lasting more than 30 minutes; (3) the number of consumer complaints per 1,000 handsets; (4) information detailing the number of unfulfilled requests for service from potential customers for a twelve month period; (5) certify compliance with service quality standards; (6) certify the ability to function in emergency situations; (7) certify local usage plan is comparable to ILEC's; and (8) certify ETC acknowledges it may be required to provide equal access. This information collection is necessary to ensure that each ETC satisfies its obligation under section 214(e) of the Communications Act of 1934, as amended, to provide services supported by the universal service mechanism throughout the areas for which each ETC is designated.

Federal Communications Commission.
Marlene H. Dortch,
Secretary.

[FR Doc. 05-9406 Filed 5-10-05; 8:45 am]

BILLING CODE 6712-01-P